DEPARTMENT OF HOMELAND SECURITY

Coast Guard

33 CFR Part 100

[USCG-2012-0286]

Newport to Bermuda Regatta, Narragansett Bay, Newport, RI

AGENCY: Coast Guard, DHS.

ACTION: Notice of enforcement of regulation.

SUMMARY: The Coast Guard will enforce the Special Local Regulation for the biennial Newport to Bermuda Regatta, Narragansett Bay, Rhode Island, from 10 a.m. to 3:30 p.m. on Friday, June 15, 2012. During the enforcement period, no person or vessel may enter or remain in the regulated area except for participants in the event, supporting personnel, vessels registered with the event organizer, and personnel or vessels authorized by the Coast Guard on-scene patrol commander.

DATES: The regulations in 33 CFR 100.119 will be enforced from 10 a.m. to 3:30 p.m. on June 15, 2012.

FOR FURTHER INFORMATION CONTACT: Mr. Edward LeBlanc, Chief, Waterways Management Division, Sector Southeastern New England, (401) 435-2351.

SUPPLEMENTARY INFORMATION: The Coast Guard will enforce the special local regulation for the biennial Newport/Bermuda Regatta, Narragansett Bay, Newport, RI, from 10 a.m. to 3:30 p.m. on Friday, June 15, 2012. A portion of the navigable waters of the East Passage, Narragansett Bay, Newport, RI or its approaches will be closed during the effective period to all vessel traffic, except local, state or Coast Guard patrol craft. The full text of this regulation is found in 33 CFR 100.119. Additional public notification will be made via the First Coast Guard District Local Notice to Mariners and marine safety broadcasts.

Dated: April 20, 2012.
Verne B. Gifford Jr.,
Captain, U.S. Coast Guard, Captain of the Port, Southeastern New England.

[FR Doc. 2012-11137 Filed 5-8-12; 8:45 am]

BILLING CODE 9110-04-P